LIBRARY OF CONGRESS

Copyright Office

[Docket No. 2017-2]

Study on the Moral Rights of Attribution and Integrity: Extension of Comment Period

AGENCY: U.S. Copyright Office, Library of Congress.

ACTION: Extension of comment period.

SUMMARY: The United States Copyright Office is extending the deadline for the submission of written comments in response to its January 23, 2017 Notice of Inquiry regarding the study on the moral rights of attribution and integrity.

DATES: Initial written comments are now due no later than 11:59 p.m. Eastern Time on March 30, 2017. Reply written comments are now due no later than 11:59 p.m. Eastern Time on May 15, 2017.

ADDRESSES: The Copyright Office is using the regulations.gov system for the submission and posting of public comments in this proceeding. All comments are therefore to be submitted electronically through regulations.gov. All comments must be submitted electronically. Specific instructions for submitting comments are posted on the Copyright Office Web site at https://www.copyright.gov/policy/moralrights/comment-submission/. If electronic submission of comments is not feasible, please contact the Office using the contact information below for special instructions.

FOR FURTHER INFORMATION CONTACT: Kimberley Isbell, Senior Counsel for Policy and International Affairs, kisb@loc.gov; or Maria Strong, Deputy Director for Policy and International Affairs, mstrong@loc.gov. Each can be reached by telephone at (202) 707-8350.

SUPPLEMENTARY INFORMATION: The United States Copyright Office is undertaking a public study to assess the current state of U.S. law recognizing and protecting moral rights for authors, specifically the rights of attribution and integrity. On January 23, 2017, the Office issued a Notice of Inquiry seeking public input on several questions relating to that topic. See 82 FR 7870 (Jan. 23, 2017). To ensure that commenters have sufficient time to respond, the Office is extending the deadline for the submission of initial comments in response to the Notice of Inquiry to March 30, 2017 at 11:59 p.m. Eastern Time. The deadline for reply comments is similarly extended, and those comments are now due May 15, 2017 at 11:59 p.m. Eastern Time. Please note that in light of the expected time frame for this study, the Office is unlikely to grant further extensions for these comments.

Dated: February 27, 2017.
Karyn Temple Claggett,
Acting Register of Copyrights and Director of the U.S. Copyright Office.

[FR Doc. 2017-04061 Filed 3-1-17; 8:45 am]

BILLING CODE 1410-30-P